DEPARTMENT OF TRANSPORTATION

Federal Aviation Administration

14 CFR Part 39

[Docket No. FAA-2020-1027; Project Identifier MCAI-2020-01375-R; Amendment 39-21333; AD 2020-24-03]

RIN 2120-AA64

Airworthiness Directives; Airbus Helicopters

AGENCY: Federal Aviation Administration (FAA), Department of Transportation (DOT).

ACTION: Final rule; request for comments.

SUMMARY: The FAA is adopting a new airworthiness directive (AD) for Airbus Helicopters Model AS350B, AS350BA, AS350B1, AS350B2, AS350D, AS355E, AS355F, AS355F1, and AS355F2 helicopters. This AD requires testing the UP/DOWN switches of a certain part-numbered DUNLOP cyclic stick grip, installing a placard, and revising the existing Rotorcraft Flight Manual (RFM) for your helicopter, or removing the DUNLOP cyclic stick grip. This AD was prompted by an inadvertent activation of the rescue hoist cable cutter. The actions of this AD are intended to address an unsafe condition on these products.

DATES: This AD becomes effective December 16, 2020.

The Director of the Federal Register approved the incorporation by reference of certain documents listed in this AD as of December 16, 2020.

The FAA must receive comments on this AD by January 15, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-1027; or in person at Docket Operations between 9 a.m. and 5 p.m., Monday through Friday, except Federal holidays. The AD docket contains this AD, the European Union Aviation Safety Agency (EASA) AD, any service information that is incorporated by reference, any comments received, and other information. The street address for Docket Operations is listed above. Comments will be available in the AD docket shortly after receipt.

For service information identified in this final rule, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177. It is also available on the internet at https://www.regulations.gov by searching for and locating Docket No. FAA-2020-1027.

FOR FURTHER INFORMATION CONTACT: Daniel E. Moore, Aviation Safety Engineer, Regulations & Policy Section, Rotorcraft Standards Branch, FAA, 10101 Hillwood Pkwy., Fort Worth, TX 76177; telephone 817-222-5110; email daniel.e.moore@faa.gov.

SUPPLEMENTARY INFORMATION:

Comments Invited

The FAA invites you to send any written data, views, or arguments about this final rule. Send your comments to an address listed under ADDRESSES. Include the docket number FAA-2020-1027 and Project Identifier MCAI-2020-01375-R at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Daniel E. Moore, Aviation Safety Engineer, Regulations & Policy Section, Rotorcraft Standards Branch, FAA, 10101 Hillwood Pkwy., Fort Worth, TX 76177; telephone 817-222-5110; email daniel.e.moore@faa.gov. Any commentary that the FAA receives which is not specifically designated as CBI will be placed in the public docket for this rulemaking.

Discussion

EASA, which is the Technical Agent for the Member States of the European Union, has issued EASA Emergency AD No. 2020-0217-E, dated October 6, 2020, to correct an unsafe condition for Airbus Helicopters (AH), formerly Eurocopter, Eurocopter France, Aerospatiale, Model AS 350 B, AS 350 BA, AS 350 B1, AS 350 B2, AS 350 D, AS 355 E, AS 355 F, AS 355 F1, and AS 355 F2 helicopters. EASA advises of a report of an unintended release of the rescue hoist hook on a Model AS 350 B2 helicopter during a ground check. The operator was using the UP/DOWN switches for rescue hoist control, installed on DUNLOP cyclic stick grip part number (P/N) AC66444, when the hoist's electrically-actuated cable cutter function activated. EASA states that this condition, if not corrected, could lead to further events of inadvertent activation of the rescue hoist cable cutter function and consequent detachment of an external load or person from the helicopter hoist, possibly resulting in personal injury or injury to persons on the ground.

To address this potential unsafe condition, Airbus Helicopters published Emergency Alert Service Bulletin (EASB) Nos. 01.00.58 and 01.00.72, each Revision 0 and dated October 1, 2020, to introduce an operational limitation.

Accordingly, the EASA AD requires installing a dedicated placard in the cockpit and amending the applicable RFM to prohibit the in-flight use of the UP/DOWN switches for rescue hoist control installed on DUNLOP cyclic stick grip P/N AC66444. EASA states its AD is considered an interim action and further AD action may follow.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of these same type designs.

Related Service Information Under 1 CFR Part 51

The FAA has reviewed Airbus Helicopters EASB No. 01.00.58 for Model AS355-series helicopters and Airbus Helicopters EASB No. 01.00.72 for Model AS350-series helicopters, each Revision 0 and dated October 1, 2020, which are co-published as one document. This service information specifies installing a placard and revising the Flight Manual to prohibit the use of the UP/DOWN switches of the DUNLOP cyclic stick grip manufacturer P/N (MP/N) AC66444.

This service information is reasonably available because the interested parties have access to it through their normal course of business or by the means identified in the ADDRESSES section.

AD Requirements

This AD requires accomplishing a ground test of the UP/DOWN switches of DUNLOP cyclic stick grip MP/N AC66444 for proper function before each hoist operation. If there is any uncommanded hoist action, this AD requires removing the DUNLOP cyclic stick grip from service.

If DUNLOP cyclic stick grip MP/N AC66444 is installed, before the next hoist operation, this AD requires installing a placard and revising the existing RFM for your helicopter to prohibit the use of the UP/DOWN switches of the DUNLOP cyclic stick grip. Alternatively, this AD allows removing DUNLOP cyclic stick grip MP/N AC66444, however before the DUNLOP cyclic stick grip is re-installed, this AD requires accomplishing the ground test of the UP/DOWN switches and installing the placard and revising the existing RFM for your helicopter. This AD also prohibits installing an affected DUNLOP cyclic stick grip unless the ground testing of the UP/DOWN switches has been accomplished, the placard has been installed, and the existing RFM for your helicopter has been revised.

Differences Between This AD and the EASA AD

The EASA AD applies to all Airbus Helicopters Model AS 350 B, AS 350 BA, AS 350 B1, AS 350 B2, AS 350 D, AS 355 E, AS 355 F, AS 355 F1, and AS 355 F2 helicopters, whereas this AD applies to Airbus Helicopters Model AS350B, AS350BA, AS350B1, AS350B2, AS350D, AS355E, AS355F, AS355F1, and AS355F2 helicopters with DUNLOP cyclic stick grip MP/N AC66444 with UP/DOWN switches for rescue hoist control installed instead. This AD requires accomplishing a ground test of the UP/DOWN switches for proper function before each hoist operation, whereas the EASA AD does not.

Interim Action

The FAA considers this AD to be an interim action. If final action is later identified, the FAA might consider further rulemaking then.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 390 helicopters of U.S. Registry. Labor rates are estimated at $85 per work-hour. Based on these numbers, the FAA estimates that operators may incur the following costs in order to comply with this AD.

Accomplishing a ground test of the UP/DOWN switches for proper function takes a minimal amount of time for a nominal cost. Installing a placard and revising the existing RFM for your helicopter takes about 0.5 work-hour for an estimated cost of $43 per helicopter and $16,770 for the U.S. fleet. Alternatively, replacing the affected DUNLOP cyclic stick grip takes about 2.5 work-hours and parts cost about $2,500 for an estimated cost of $2,713.

FAA's Justification and Determination of the Effective Date

Section 553(b)(3)(B) of the Administrative Procedure Act (5 U.S.C.) authorizes agencies to dispense with notice and comment procedures for rules when the agency, for “good cause” finds that those procedures are “impracticable, unnecessary, or contrary to the public interest.” Under this section, an agency, upon finding good cause, may issue a final rule without seeking comment prior to the rulemaking.

An unsafe condition exists that requires the immediate adoption of this AD without providing an opportunity for public comments prior to adoption. The FAA has found that the risk to the flying public justifies waiving notice and comment prior to adoption of this rule because there are required corrective actions that must be completed before the next hoist operation. Therefore, notice and opportunity for prior public comment are impracticable and contrary to public interest pursuant to 5 U.S.C. 553(b)(3)(B). In addition, for the reasons stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866, and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-24-03 Airbus Helicopters: Amendment 39-21333; Docket No. FAA-2020-1027; Project Identifier MCAI-2020-01375-R.

(a) Applicability

This airworthiness directive (AD) applies to Airbus Helicopters Model AS350B, AS350BA, AS350B1, AS350B2, AS350D, AS355E, AS355F, AS355F1, and AS355F2 helicopters, certificated in any category, with DUNLOP cyclic stick grip manufacturer part number AC66444 with UP/DOWN switches for rescue hoist control installed.

(b) Unsafe Condition

This AD defines the unsafe condition as inadvertent activation of the rescue hoist cable cutter and consequent detachment of an external load or person from the helicopter hoist. This condition could result in personal injury or injury to persons on the ground.

(c) Effective Date

This AD becomes effective December 16, 2020.

(d) Compliance

You are responsible for performing each action required by this AD within the specified compliance time unless it has already been accomplished prior to that time.

(e) Required Actions

(1) Before each hoist operation, accomplish a ground test of the UP/DOWN switches for proper function. If there is any uncommanded hoist action, before further flight, remove the DUNLOP cyclic stick grip from service.

(2) Before the next hoist operation:

(i) Install a placard in full view of the pilot by following the Accomplishment Instructions, paragraph 3.B., of Airbus Helicopters Emergency Alert Service Bulletin (EASB) No. 01.00.58 or 01.00.72, each Revision 0 and dated October 1, 2020 (EASB 01.00.58 or 01.00.72), as applicable to your helicopter.

(ii) Revise the existing Rotorcraft Flight Manual (RFM) for your helicopter by inserting the Limitations page applicable to your helicopter model and version from Appendix 4.C. through L, of EASB 01.00.58 or 01.00.72. Inserting a different document with information identical to that in Appendix 4.C. through L., of EASB 01.00.58 or 01.00.72, as applicable to your helicopter model and version, is acceptable for compliance with the requirement of this paragraph.

(3) After complying with paragraph (e)(2) of this AD, each time the DUNLOP cyclic stick grip that is identified in paragraph (a) of this AD is removed from the helicopter, you may remove the placard and RFM revision that are required by paragraphs (e)(2)(i) and (ii) of this AD. Before the DUNLOP cyclic stick grip is re-installed, you must re-install the placard and RFM revision that are required by paragraphs (e)(2)(i) and (ii) of this AD.

(4) As of the effective date of this AD, do not install a DUNLOP cyclic stick grip that is identified in paragraph (a) of this AD unless the requirements of paragraphs (e)(1) and (2) of this AD have been accomplished.

(f) Alternative Methods of Compliance (AMOCs)

(1) The Manager, Rotorcraft Standards Branch, FAA, may approve AMOCs for this AD. Send your proposal to: Daniel E. Moore, Aviation Safety Engineer, Regulations & Policy Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Additional Information

The subject of this AD is addressed in European Union Aviation Safety Agency (EASA) AD No. 2020-0217-E, dated October 6, 2020. You may view the EASA AD on the internet at https://www.regulations.gov by searching for and locating it in Docket No. FAA-2020-1027.

(h) Subject

Joint Aircraft Service Component (JASC) Code: 6700, Rotorcraft Flight Control.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin (EASB) No. 01.00.58, Revision 0, dated October 1, 2020.

(ii) Airbus Helicopters EASB No. 01.00.72, Revision 0, dated October 1, 2020.

Note 1 to paragraph (i)(2): Airbus Helicopters EASB Nos. 01.00.58 and 01.00.72, each Revision 0 and dated October 1, 2020, are co-published as one document.

(3) For service information identified in this AD, contact Airbus Helicopters, 2701 N Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on November 12, 2020.
Lance T. Gant,
Director, Compliance & Airworthiness Division, Aircraft Certification Service.

[FR Doc. 2020-26422 Filed 11-30-20; 8:45 am]

BILLING CODE 4910-13-P